DEPARTMENT OF THE TREASURY

Submission for OMB Review; Comment Request

July 14, 2003.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before August 20, 2003 to be assured of consideration.

Departmental Offices/Community Development Financial Institutions (CDFI) Fund

OMB Number: 1559-0022.

Form Number: CDFI 0006.

Type of Review: Extension.

Title: Technical Assistance Component, CDFI Program.

Description: The CDFI Fund provides grants to be used to acquire technical assistance to increase the capacity of community development financial institutions (CDFIs) or proposed CDFIs to serve underserved target markets.

Respondents: Not-for-profit institutions, Business or other for-profit.

Estimated Number of Respondents: 80.

Estimated Burden Hours Per Respondent: 55 hours.

Frequency of Response: Other (application submission only).

Estimated Total Reporting Burden: 4,400 hours.

Clearance Officer: Lois K. Holland, (202) 622-1563, Departmental Offices, Room 2110, 1425 New York Avenue, NW., Washington, DC 20220. OMB Reviewer: Joseph F. Lackey, Jr., (202) 395-7316, Office of Management and Budget, Room 10235, New Executive Office Building, Washington, DC 20503.

Lois K. Holland,
Treasury PRA Clearance Officer.

[FR Doc. 03-18431 Filed 7-18-03; 8:45 am]

BILLING CODE 4811-16-P